DEPARTMENT OF THE INTERIOR

Fish and Wildlife Service

[FWS-R2-ES-2014-N158; FXES11130200000-145-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. Both the Act and the National Environmental Policy Act require that we invite public comment before issuing these permits.

DATES: To ensure consideration, written comments must be received on or before August 28, 2014.

ADDRESSES: Wendy Brown, Chief, Recovery and Restoration Branch, by U.S. mail at Division of Classification and Recovery, U.S. Fish and Wildlife Service, P.O. Box 1306, Albuquerque, NM 87103; or by telephone at 505-248-6920. Please refer to the respective permit number for each application when submitting comments.

FOR FURTHER INFORMATION CONTACT: Susan Jacobsen, Chief, Division of Classification and Restoration, by U.S. mail at P.O. Box 1306, Albuquerque, NM 87103; or by telephone at 505-248-6665.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-36687B

Applicant: Andrew Storfer, Whitman, Washington.

Applicant requests a new permit for research and recovery purposes to conduct presence/absence surveys and conduct tail clipping to collect 300 tissue samples of larval and adult Sonoran tiger salamanders (Ambystoma tigrinum stebbinsi) within Arizona.

Permit TE-099278

Applicant: Fred Phillips Consulting, Flagstaff, Arizona.

Applicant requests a renewal to a current permit for research and recovery purposes to conduct presence/absence surveys of southwestern willow flycatcher (Empidonax traillii extimus) and Yuma clapper rail (Rallus longirostris yumanensis) within Arizona.

Permit TE-842565

Applicant: USDA, Forest Service—Cibola National Forest, Albuquerque, New Mexico.

Applicant requests a renewal to a current permit for research and recovery purposes to conduct presence/absence surveys for southwestern willow flycatcher (Empidonax traillii extimus) within New Mexico.

Permit TE-078347

Applicant: U.S. Fish and Wildlife Service—Cabeza Prieta National Wildlife Refuge, Ajo, Arizona.

Applicant requests a renewal to a current permit for research and recovery purposes to conduct presence/absence surveys and management activities for Sonoran pronghorn (Antilocapra americana sonoriensis) on the Refuge in Arizona.

Permit TE-835139

Applicant: Hawks Aloft, Inc., Albuquerque, New Mexico.

Applicant requests a renewal to an expired permit for research and recovery purposes to conduct presence/absence surveys of southwestern willow flycatcher (Empidonax traillii extimus) within New Mexico.

Permit TE-28891A

Applicant: Timothy Tristan, Corpus Christi, Texas.

Applicant requests a renewal to a current permit for research and recovery purposes to conduct sea turtle stranding and stranding activities, rehabilitation, satellite tracking, and nest detection of the following sea turtles in Texas:

• Kemp's ridley sea turtle (Lepidochelys kempii)

• Loggerhead sea turtle (Caretta caretta)

• Hawksbill sea turtle (Eretmochelys imbricata)

• Green sea turtle (Chelonia mydas)

• Leatherback sea turtle (Dermochelys coriacea)

Permit TE-233205

Applicant: Thomas Bonn, Lockhart, Texas.

Applicant requests an amendment to a current permit for research and recovery purposes to conduct presence/absence surveys of golden-cheeked warbler (Dendroica chrysoparia) within Texas.

Permit TE−37416B

Applicant: Cambrian Environmental, Austin, Texas.

Applicant requests a new permit for research and recovery purposes to conduct presence/absence surveys of the following species within Texas:

• Bee Creek Cave harvestman (Texella reddelli)

• Bone Cave harvestman (Texella reyesi)

• Braken Bat Cave meshweaver (Cicurina venii)

• Coffin Cave mold beetle (Batrisodes texanus)

• Cokendolpher Cave harvestman (Texella cokendolpheri)

• Government Canyon Bat Cave meshweaver (Cicurina vespera)

• Government Canyon Bat Cave spider (Neoleptoneta microps)

• Ground beetle (Unnamed) (Rhadine exilis)

• Ground beetle (Unnamed) (Rhadine infernalis)

• Helotes mold beetle (Batrisodes venyivi)

• Interior least tern (Sterna antillarum)

• Kretschmarr Cave mold beetle (Texamaurops reddelli)

• Madla Cave meshweaver (Cicurina madla)

• Robber Baron Cave meshweaver (Cicurina baronia)

• Tooth Cave ground beetle (Rhadine persephone)

• Tooth Cave pseudoscorpion (Tartarocreagris texana)

• Tooth Cave spider (Neoleptoneta (=Leptoneta) myopica)

Permit TE-37418B

Applicant: Brown and Gay Engineers, Inc., Frisco, Texas.

Applicant requests a new permit for research and recovery purposes to conduct presence/absence surveys for golden-cheeked warbler (Dendroica chrysoparia) and black-capped vireo (Vireo atricapilla) within Texas.

Permit TE-233201

Applicant: Amistad National Recreation Area, Del Rio, Texas.

Applicant requests a renewal to a current permit for research and recovery purposes to conduct presence/absence surveys of interior least tern (Sterna antillarum) within Texas.

Permit TE-37946B

Applicant: Marjorie Wright, Española, New Mexico.

Applicant requests a new permit for research and recovery purposes to conduct presence/absence surveys of Jemez mountain salamander (Plethodon neomexicanus) within New Mexico.

Permit TE-172278

Applicant: John Abbott, Cedar Park, Texas.

Applicant requests a renewal to a current permit for research and recovery purposes to conduct presence/absence surveys of American burying beetle (Nicrophorus americanus) within Texas and Oklahoma.

Permit TE-37948B

Applicant: HDR Engineering, Inc., Austin, Texas.

Applicant requests a new permit for research and recovery purposes to conduct presence/absence surveys of Neosho mucket (Lampsilis rafinesqueana) within Oklahoma.

Permit TE-814933

Applicant: Texas Parks and Wildlife Department, Austin, Texas.

Applicant requests a renewal to a current permit for research and recovery purposes to conduct presence/absence surveys of the following species within Texas:

• Barton Springs salamander (Eurycea sosorum)

• Bee Creek Cave harvestman (Texella reddelli)

• Big Bend gambusia (Gambusia gaigei)

• Black-capped vireo (Vireo atricapilla)

• Bone Cave harvestman (Texella reyesi)

• Braken Bat Cave meshweaver (Cicurina venii)

• Clear Creek gambusia (Gambusia heterochir)

• Coffin Cave mold beetle (Batrisodes texanus)

• Cokendolpher Cave harvestman (Texella cokendolpheri)

• Comal Springs dryopid beetle (Stygoparnus comalensis)

• Comal Springs riffle beetle (Heterelmis comalensis)

• Comanche Springs pupfish (Cyprinodon elegans)

• Fountain darter (Etheostoma fonticola)

• Golden-cheeked warbler (Dendroica chrysoparia)

• Government Canyon Bat Cave meshweaver (Cicurina vespera)

• Government Canyon Bat Cave spider (Neoleptoneta microps)

• Green sea turtle (Chelonia mydas)

• Ground beetle (Unnamed) (Rhadine exilis)

• Ground beetle (Unnamed) (Rhadine infernalis)

• Hawksbill sea turtle (Eretmochelys imbricata)

• Helotes mold beetle (Batrisodes venyivi)

• Interior least tern (Sterna antillarum)

• Jaguarundi (Herpailurus yagouaroundi)

• Kemp's ridley sea turtle (Lepidochelys kempii)

• Kretschmarr Cave mold beetle (Texamaurops reddelli)

• Lesser long-nosed bat (Leptonycteris yerbabuenae)

• Loggerhead sea turtle (Caretta caretta)

• Leatherback sea turtle (Dermochelys coriacea)

• Madla Cave meshweaver (Cicurina madla)

• Mexican long-nosed bat (Leptonycteris nivalis)

• Northern aplomado falcon (Falco femoralis)

• Ocelot (Leopardus pardalis)

• Peck's Cave amphipod (Stygobromus (=stygonectes) pecki)

• Piping plover (Charadrius melodus)

• Red-cockaded woodpecker (Picoides borealis)

• Rio Grande silvery minnow (Hybognathus amarus)

• Robber Baron Cave meshweaver (Cicurina baronia)

• San Marcos salamander (Eurycea nana)

• Southwestern willow flycatcher (Empidonax traillii extimus)

• Texas blind salamander (Eurycea rathbuni)

• Tooth Cave ground beetle (Rhadine persephone)

• Tooth Cave pseudoscorpion (Tartarocreagris texana)

• Tooth Cave spider (Neoleptoneta (=Leptoneta) myopica)

• Whooping crane (Grus americana)

Permit TE-07059A

Applicant: Paul Marsh, Tempe, Arizona.

Applicant requests a renewal to a current permit for research and recovery purposes to conduct presence/absence surveys of the following species within Arizona:

• Bonytail chub (Gila elegans)

• Colorado pikeminnow (Ptychocheilus lucius)

• Desert pupfish (Cyprinodon macularius)

• Gila chub (Gila intermedia)

• Gila topminnow (Poeciliopsis occidentalis)

• Loach minnow (Tiaroga cobitis)

• Quitobaquito pupfish (Cyprinodon macualarius eremus)

• Razorback sucker (Xyrauchen texanus)

• Spikedace (Meda fulgida)

• Virgin River chub (Gila robusta seminuda)

• Woundfin (Plagopterus argentissimus)

• Yaqui topminnow (Poeciliopsis occidentalis sonrensis)

Permit TE-43746A

Applicant: Northern Arizona University, Tempe, Arizona.

Applicant requests a renewal to a current permit for research and recovery purposes to conduct presence/absence surveys of southwestern willow flycatcher (Empidonax traillii extimus) within Arizona.

Permit TE-24623A

Applicant: Miller Park Zoo, Bloomington, Illinois.

Applicant requests a renewal to a current permit for research and recovery purposes to trap and release, transport, and captively breed Mount Graham red squirrels (Tamiasciurus hudsonicus grahamensis) within Miller Park Zoo and in known Mount Graham red squirrel habitat within Arizona.

Permit TE-59580A

Applicant: Rocky Mountain Ecology, Durango, Colorado.

Applicant requests an amendment to a current permit for research and recovery purposes to conduct presence/absence surveys of southwestern willow flycatcher (Empidonax traillii extimus) within Colorado.

Permit TE-797127

Applicant: U.S. Army Corps of Engineers, Albuquerque, New Mexico.

Applicant requests a renewal to a current permit for research and recovery purposes to conduct presence/absence surveys of the following species within Arizona, New Mexico, and Colorado:

• Interior least tern (Sterna antillarum)

• Northern aplomado falcon (Falco femoralis)

• Piping plover (Charadrius melodus)

• Rio Grande silvery minnow (Hybognathus amarus)

• Southwestern willow flycatcher (Empidonax traillii extimus)

• Whooping crane (Grus americana)

They also request seed collection of the following plant species within New Mexico:

• Holy Ghost ipomopsis (Ipomopsis sancti-spiritus)

• Knowlton cactus (Pediocactus knowltonii)

• Kuenzler's hedgehog cactus (Echinocereus fendleri var. kuenzleri)

• Mancos milk-vetch (Astragalus humillimus)

• Sacramento prickly poppy (Argemone pleiacantha spp. pinnatisecta)

• Sneed pincushion cactus (Coryphantha sneedii var. sneedii)

• Todsen's pennyroyal (Hedeoma todsenii)

• Gypsum wild-buckwheat (Eriogonum gypsophilum)

• Lee pincushion cactus (Coryphantha sneedii var. leei)

• Mesa Verde cactus (Sclerocactus mesae-verdae)

• Pecos sunflower (Helianthus paradoxus)

• Sacramento Mountains thistle (Cirsium vinaceum)

• Zuni fleabane (Erigeron rhizomatus)

Permit TE-088197

Applicant: High Mesa Research, LLC., Valdez, New Mexico.

Applicant requests a renewal to a current permit for research and recovery purposes to conduct presence/absence surveys of southwestern willow flycatcher (Empidonax traillii extimus) within Arizona, California, Colorado, Nevada, New Mexico, and Utah.

Permit TE-40088B

Applicant: Jennifer Frey, Radium Springs, New Mexico.

Applicant requests a new permit for research and recovery purposes to conduct presence/absence surveys of New Mexico meadow jumping mouse (Zapus hudsonicus luteus) within New Mexico.

Permit TE-40089B

Applicant: Botanical and Nature Institute of South Texas, Inc., Corpus Christi, Texas.

Applicant requests a new permit for research and recovery purposes to propagate and maintain refugia populations of slender rush-pea (Hoffmannseggia tenella) and black lace cactus (Echinocereus reichenbachii var. albertii) at the botanical garden in Texas.

Permit TE-33863A

Applicant: Deborah Blackburn, Austin, Texas.

Applicant requests a renewal to a current permit for research and recovery purposes to conduct presence/absence surveys of golden-cheeked warbler (Dendroica chrysoparia) within Texas, and southwestern willow flycatcher (Empidonax traillii extimus) within Arizona, California, Colorado, Nevada, New Mexico, and Utah.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the Act (16 U.S.C. 1531 et seq.)

Dated: July 15, 2014.
Joy. E. Nicholopoulos,
Acting Regional Director, Southwest Region, U.S. Fish and Wildlife Service.

[FR Doc. 2014-17678 Filed 7-28-14; 8:45 am]

BILLING CODE 4310-55-P